DEPARTMENT OF HOUSING AND URBAN DEVELOPMENT

[Docket No. FR-5041-N-04]

Notice of Proposed Information Collection: Comment Request; Application for Fee or Roster Personnel Designation, and Appraisal Report Forms

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: April 28, 2006.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8001, Washington, DC 20410 or Lillian_Deitzer@hud.gov.

FOR FURTHER INFORMATION CONTACT: Margaret Burns, Director, Office of Single Family Program Development, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Application for Fee or Roster Personnel Designation, and Appraisal Report Forms.

OMB Control Number, if applicable: 2502-0538.

Description of the need for the information and proposed use: Information is collected from real estate appraisers and inspectors seeking placement on the Federal Housing Administration (FHA) Appraiser and Inspector Rosters. The FHA Appraiser Roster is a national listing of eligible appraisers who prepare appraisals on single family properties that will be security for FHA insured mortgages. The FHA Inspector Roster is a national listing of eligible inspectors who determine the quality of construction of single family properties that will be security for FHA insured mortgages. FHA Roster Appraisers and Inspectors assist in protecting the interest of HUD, the taxpayers, and the FHA insurance fund.

Agency form numbers, if applicable: HUD-92563 and HUD-92564-CN.

Estimation of the total numbers of hours needed to prepare the information collection including number of respondents, frequency of response, and hours of response: The estimated total number of hours needed to prepare the information collection is 1,494; the number of respondents is 470,668 generating 470,868 annual responses; the frequency per response is on occasion; and the estimated time needed to prepare the responses varies from 0 to 30 minutes.

Status of the proposed information collection: This is a revision of a currently approved collection, seeking to include the requirements approved under OMB control number 2502-0548, FHA Fee Inspector Panel Application Package.

Authority: The Paperwork Reduction Act of 1995, 44 U.S.C., Chapter 35, as amended.

Dated: February 17, 2006.
Frank L. Davis,
General Deputy Assistant Secretary for Housing-Deputy Federal Housing Commissioner.

[FR Doc. E6-2730 Filed 2-24-06; 8:45 am]

BILLING CODE 4210-27-P